DEPARTMENT OF LABOR

Employment and Training Administration

[TA-W-51,175]

Jamestown Precision Tooling, Inc., Jamestown Division, Jamestown, NY; Notice of Revised Determination On Reopening

On May 5, 2003, the Department, on its own motion, reopened its investigation for the former workers of the subject firm.

The initial investigation resulted in a negative determination issued on April 25, 2003, based on the finding that the workers' firm did not shift production of tool and die components to a foreign country, nor did the company or its customers import tool and die components from 2001 through February 2003. The denial notice will soon be published in the Federal Register.

A late response to the customer survey conducted by the Department revealed that this customer of the subject firm increased import purchases of tool and die components while reducing purchases from Jamestown Precision Tooling Inc.

Conclusion

After careful consideration of the new facts obtained on reopening, it is concluded that increased imports of articles like or directly competitive with tool and die components produced by Jamestown Precision Tooling, Inc., Jamestown Division, Jamestown, New York, contributed importantly to the decline in sales and to the total or partial separation of workers of the subject firm.

In accordance with the provisions of the Trade Act of 1974, I make the following revised determination:

All workers of Jamestown Precision Tooling, Inc., Jamestown Division, Jamestown, New York, who became totally or partially separated from employment on or after February 5, 2002 through two years from the date of certification, are eligible to apply for adjustment assistance under section 223 of the Trade Act of 1974.

Signed in Washington, DC this 6th day of May, 2003.
Linda G. Poole,
Certifying Officer, Division of Trade Adjustment Assistance.

[FR Doc. 03-12428 Filed 5-16-03; 8:45 am]

BILLING CODE 4510-30-P